SMALL BUSINESS ADMINISTRATION

Office of the National Ombudsman—Region V Regulatory Fairness Board

Public Federal Regulatory Enforcement Fairness Hearing

The Small Business Administration, Office of the National Ombudsman and Region V Regulatory Fairness Board, will hold a Public Hearing on Monday, July 8, 2002 at 8:30 a.m. at the Italian Community Center, 631 East Chicago Street, Milwaukee, WI 53202, to receive comments and testimony from small business owners, small government entities, and small non-profit organizations concerning regulatory enforcement and compliance actions taken by federal agencies.

Anyone wishing to attend or to make a presentation must contact Janice Wipijewski in writing at U.S. Small Business Administration, Wisconsin District Office, 310 West Wisconsin Avenue, Milwaukee, WI 53203, phone (414) 297-1096, fax (414) 297-1377, e-mail janice.wipkjewski@sba.gov.

For more information about this event and assistance with excessive federal regulatory enforcement actions, such as repetitive audits or investigations, punitive fines, penalties, threats, retaliation or other unfair enforcement action taken by a federal agency, visit the National Ombudsman's Web site at www.sba.gov/ombudsman.

Steve Tupper,
Committee Management Officer.

[FR Doc. 02-16929 Filed 7-5-02; 8:45 am]

BILLING CODE 8025-01-P